DEPARTMENT OF COMMERCE

National Oceanic and Atmospheric Administration

Evaluation of State Coastal Management Program

AGENCY: Office for Coastal Management (OCM), National Ocean Service (NOS), National Oceanic and Atmospheric Administration (NOAA), Department of Commerce (DOC).

ACTION: Notice of public meeting and opportunity to comment.

SUMMARY: The National Oceanic and Atmospheric Administration (NOAA), Office for Coastal Management will hold a public meeting to solicit comments on the performance evaluation of the Pennsylvania Coastal Management Program.

DATES: Pennsylvania Coastal Management Program Evaluation: The public meeting will be held on November 12, 2019, and written comments must be received on or before November 22, 2019.

For specific dates, times, and locations of the public meetings, see SUPPLEMENTARY INFORMATION.

ADDRESSES: You may submit comments on the coastal program NOAA intends to evaluate by any of the following methods:

Public Meeting and Oral Comments: A public meeting will be held in Ridley Park, Pennsylvania. For the specific location, see SUPPLEMENTARY INFORMATION.

Written Comments: Please submit written comments to Ralph Cantral, Senior Advisor, NOAA Office for Coastal Management, 2234 South Hobson Avenue, Charleston, South Carolina 29405 or email comments to Ralph.Cantral@noaa.gov. Comments that the Office for Coastal Management receives are considered part of the public record and may be publicly accessible. Any personal identifying information (e.g., name, address) submitted voluntarily by the sender may also be publicly accessible. NOAA will accept anonymous comments.

FOR FURTHER INFORMATION CONTACT: Ralph Cantral, Senior Advisor, NOAA Office for Coastal Management, NOS/NOAA, 2234 South Hobson Avenue, Charleston, South Carolina 29405, by phone at (843) 740-1143 or email Ralph.Cantral@noaa.gov. Copies of the previous evaluation findings and 2016-2020 Assessment and Strategy may be viewed and downloaded on the internet at http://coast.noaa.gov/czm/evaluations. A copy of the evaluation notification letter and most recent progress report may be obtained upon request by contacting the person identified under FOR FURTHER INFORMATION CONTACT.

SUPPLEMENTARY INFORMATION: Section 312 of the Coastal Zone Management Act (CZMA) requires NOAA to conduct periodic evaluations of federally approved state coastal programs. The process includes one or more public meetings, consideration of written public comments, and consultations with interested Federal, state, and local agencies and members of the public. During the evaluation, NOAA will consider the extent to which the state has met the national objectives, adhered to the management program approved by the Secretary of Commerce, and adhered to the terms of financial assistance under the CZMA. When the evaluation is completed, NOAA's Office for Coastal Management will place a notice in the Federal Register announcing the availability of the Final Evaluation Findings.

You may participate or submit oral comments at the public meeting scheduled as follows:

Date: November 12, 2019.

Time: 6:30 p.m., local time.

Location: Water's Edge Banquet Hall, 500 North Land, Ridley Park, PA 19078.

Written public comments must be received on or before November 22, 2019.

Federal Domestic Assistance Catalog 11.419

Coastal Zone Management Program Administration

Keelin Kuipers,
Deputy Director, Office for Coastal Management, National Ocean Service, National Oceanic and Atmospheric Administration.

[FR Doc. 2019-20340 Filed 9-19-19; 8:45 am]

BILLING CODE 3510-08-P